DEPARTMENT OF DEFENSE

Department of the Army

In Accordance With Section 10(a)(2) of the Federal Advisory Committee Act (5 U.S.C. App 2.), Announcement Is Made of the Following Committee Meeting: Western Hemisphere Institute for Security Cooperation Board of Visitors; Meeting

AGENCY: Department of the Army, DoD.

ACTION: Notice of open meeting.

SUMMARY: This notice sets forth the schedule and summary agenda for the annual meeting of the Board of Visitors (BoV) for the Western Hemisphere Institute for Security Cooperation (WHINSEC). Notice of this meeting is required under the Federal Advisory Committee Act (Pub. L. 92-463). The Board's charter was renewed on March 18, 2010 in compliance with the requirements set forth in Title 10 U.S.C. 2166.

DATES: Tuesday-Wednesday, September 27-28, 2011.

Time: Tuesday—8 a.m. to 3 p.m. and Wednesday—8 a.m. to 12 p.m.

Location: 7161 Richardson Circle, Fort Benning, Georgia.

Proposed Agenda: The WHINSEC BoV will be briefed on activities at the Institute since the last Board meeting on December 3rd, 2010, as well as receive other information appropriate to its interests.

FOR FURTHER INFORMATION CONTACT: WHINSEC Board of Visitors Secretariat at (703) 614-8721.

SUPPLEMENTARY INFORMATION: The meeting is open to the public. Pursuant to the Federal Advisory Committee Act of 1972 and 41 CFR 102-3.140(c), members of the public or interested groups may submit written statements to the advisory committee for consideration by the committee members. Written statements should be no longer than two type-written pages and sent via fax to (703) 614-8920 by 5 p.m. E.ST. on Monday, September 19th, 2011, for consideration at this meeting.

In addition, public comments by individuals and organizations may be made from 9:30 to 9:45 a.m. during the meeting on 27 September. Public comments will be limited to three minutes each. Anyone desiring to make an oral statement must register by sending a fax to (703) 614-8920 with his/her name, phone number, email address, and the full text of his/her comments (no longer than two typewritten pages) by 5 p.m. E.S.T. on Monday, September 19th, 2011. The first five requestors will be notified by 5 p.m. E.S.T. on Friday, September 23rd, 2011, of their time to address the Board during the public comment forum. All other comments will be retained for the record. Public seating is limited and will be available on a first-come, first-served basis.

Scott P. Caldwell,
Executive Secretary, Department of the Army Civilian, WHINSEC Board of Visitors.

[FR Doc. 2011-14293 Filed 6-9-11; 8:45 am]

BILLING CODE M